DEPARTMENT OF COMMERCE

National Oceanic and Atmospheric Administration

[I.D. 020305C]

Endangered and Threatened Species; Take of Anadromous Fish

AGENCY: National Marine Fisheries Service (NMFS), National Oceanic and Atmospheric Administration (NOAA), Commerce.

ACTION: Applications for scientific research permits 1513, 1519, and 1521 and a request to modify permit 1322.

SUMMARY: Notice is hereby given that NMFS has received three scientific research permit applications and one modification request relating to Pacific salmon. The proposed research is intended to increase knowledge of species listed under the Endangered Species Act (ESA) and to help guide management and conservation efforts.

DATES: Comments or requests for a public hearing on the application must be received at the appropriate address or fax number (see ADDRESSES) no later than 5 p.m. Pacific daylight-saving time on March 17, 2005.

ADDRESSES: Written comments on the application should be sent to Protected Resources Division, NMFS, F/NWO3, 525 NE Oregon Street, Suite 500, Portland, OR 97232-2737. Comments may also be sent via fax to 503-230-5435 or by e-mail to resapps.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species and evolutionarily significant units (ESUs) are covered in this notice:

Sockeye salmon (Oncorhynchus nerka): endangered Snake River (SR).

Chinook salmon (O. tshawytscha): endangered naturally-produced and artificially propagated upper Columbia River (UCR); threatened naturally produced and artificially propagated SR spring/summer (spr/sum); threatened SR fall; threatened lower Columbia River (LCR); threatened upper Willamette River (UWR); threatened Puget Sound (PS).

Chum salmon (O. keta): threatened Columbia River (CR).

Steelhead (O. mykiss): threatened SR; threatened middle Columbia River (MCR); endangered UCR; threatened LCR; threatened UWR.

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). The holding of such a hearing is at the discretion of the Assistant Administrator for Fisheries, NOAA.

Application Received

Permit 1322 - Modification 3

NMFS' Northwest Fisheries Science Center (NWFSC) is asking to modify its 5-year permit to increase the annual number of listed fish taken in its research and to add take of juvenile UCR steelhead (natural and artificially propagated). The NWFSC is asking to increase its annual take of juvenile SR steelhead, LCR steelhead, MCR steelhead, UWR steelhead, and CR chum salmon while conducting research in the Columbia River estuary. The purposes of the research are to (1) determine the presence and abundance of fall and spring chinook salmon, coho salmon, and chum salmon in the estuary and lower Columbia River; (2) determine the relationship between juvenile salmon and lower Columbia River estuarine habitat; and (3) obtain information about flow change, sediment input, and habitat availability so they may develop a numerical model of the fishes' survival. The research would benefit listed salmonids by serving as a basis for estuarine restoration and preservation plans.

The NWFSC proposes to capture, handle, and release listed salmonids, and while most of the fish would be unharmed, some would die during the course of the research and a small number of them would intentionally be killed. Purse seines, trapnets and beach seines would be used to capture the fish. Captured fish would be anesthetized, identified, sampled for tissues, and measured. Some fish would be sacrificed to confirm species identification, catch composition, food habits, and timing of estuarine entry.

Permit 1513

Washington Trout (WT) is requesting a 2-year research permit to annually capture, handle, and release juvenile PS chinook salmon. The research would take place in nearshore habitats of Admiralty Inlet, Washington. The purpose of the research is to determine habitat use by listed species in the nearshore waters of Admiralty Inlet. The WT intends to determine juvenile fish presence and abundance on a monthly basis in 2005 and 2006. The research would benefit listed chinook by determining which habitat types are used by juvenile chinook. The information gathered by this research would be used to design and prioritize habitat restoration and preservation projects. The WT proposes to capture the fish using beach seines. Captured fish would be identified, counted, checked for tags or marks, measured, and released. The WT does not intend to kill any of the fish being captured, but a small number may die as an unintended result of the activities.

Permit 1519

The Columbia River Estuary Study Taskforce (CREST) is requesting a 5-year research permit to annually capture, handle, tag, and release juvenile SR sockeye salmon, SR fall chinook salmon, SR spring/summer chinook salmon, UCR chinook salmon, LCR chinook salmon, UWR chinook salmon, SR steelhead, UCR steelhead, MCR steelhead, LCR steelhead, UWR steelhead, and CR chum salmon. The research would take place in Grays Bay, Washington and Youngs Bay, Oregon in the Columbia River estuary. The purpose of the research is to evaluate estuarine habitat restoration efforts. Specific objectives are to (1) determine species composition, relative abundance, and residence time of various listed fish by using pre-restored and restoration project habitats and adjacent references sites; (2) determine prey utilization by juvenile salmon; and (3) determine prey availability. The research would benefit listed salmonids by determining how effectively currently altered habitats support salmonids and using that information to guide future habitat modifications.

The CREST proposes to capture the fish using fyke nets, trap nets, and beach seines. Most of the captured fish would be anesthetized, identified, counted, measured, weighed, checked for tags and marks, and released. Some of the fish would be tagged with passive integrated transponders, or injected with dye or visible implant elastomers. Fin or scale tissue samples for genetic or age analysis would be taken from a portion of the captured juvenile chinook salmon. Some of the captured juvenile salmonid would be sampled for stomach content. The CREST does not intend to kill any of the fish being captured, but a small number may die as an unintended result of the activities.

Permit 1521

Wyllie-Echeverria Associates (WEA) is requesting a 2-year research permit to annually capture, handle, fin-clip, and release juvenile PS chinook salmon. The research would take place in nearshore habitats of Orcas and Waldron Islands, Washington. The purpose of the research is to determine which salmonid species and which chinook salmon stocks use the nearshore habitats of the islands. The WEA intends to determine juvenile fish presence and abundance on a monthly basis in 2005 and 2006. The research would benefit listed chinook by providing direct evidence of species- and stock-specific use of nearshore habitats. The information gathered by this research would be used to set priorities for protecting nearshore habitats. The WEA proposes to capture fish using beach seines, surface tow nets, and toss nets. Captured fish would be identified, counted, checked for tags or marks, measured, and released. Fin-clip samples would be collected for genetic analysis from a subsample of the captured fish. The WEA does not intend to kill any of the fish being captured, but a small number may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: February 8, 2005.
Susan Pultz,
Acting Chief, Endangered Species Division, Office of Protected Resources, National Marine Fisheries Service.

[FR Doc. 05-2901 Filed 2-14-05; 8:45 am]

BILLING CODE 3510-22-S